FEDERAL DEPOSIT INSURANCE CORPORATION

Sunshine Act Meetings

TIME AND DATE: 10:00 a.m. on July 30, 2024.

PLACE: This Board meeting will be open to public observation only by webcast. Visit https://www.fdic.gov/news/board-matters/video.html for a link to the webcast. FDIC Board Members and staff will participate from FDIC Headquarters, 550 17th Street NW, Washington, DC.

Observers requiring auxiliary aids (e.g., sign language interpretation) for this meeting should email DisabilityProgram@fdic.gov to make necessary arrangements.

STATUS: Open to public observation via webcast.

MATTERS TO BE CONSIDERED: The Federal Deposit Insurance Corporation's Board of Directors will meet to consider the following matters:

Discussion Agenda

Notice of Proposed Rulemaking on Brokered Deposit Restrictions.

Notice of Proposed Rulemaking on Parent Companies of Industrial Banks and Industrial Loan Companies.

Request for Information on Deposits.

Final Guidance for Title I Resolution Plan Triennial Full Filers and Extension of Submission Deadline.

Proposals regarding the Change in Bank Control Act Regulations and Procedures.

Summary Agenda: No substantive discussion of the following items is anticipated. The Board will resolve these matters with a single vote unless a member of the Board of Directors requests that an item be moved to the discussion agenda.

Final Rule on Revisions to the FDIC's Section 19 Regulations.

Interim Final Rule on Clarification of Deposit Insurance Coverage for Legacy Branches of U.S. Banks in the Federated States of Micronesia, the Marshall Islands, and Palau.

Notice of Proposed Rulemaking regarding the Financial Data Transparency Act.

Minutes of a Board of Directors' Meeting Previously Distributed.

Summary reports, status reports, and reports of actions taken pursuant to authority delegated by the Board of Directors.

CONTACT PERSON FOR MORE INFORMATION: Direct requests for further information concerning the meeting to Debra A. Decker, Executive Secretary of the Corporation, at 202-898-8748.

Authority: 5 U.S.C. 552b.

Dated at Washington, DC, on July 24, 2024.
Federal Deposit Insurance Corporation.
James P. Sheesley,
Assistant Executive Secretary.

[FR Doc. 2024-16671 Filed 7-25-24; 11:15 am]

BILLING CODE 6714-01-P